DEPARTMENT OF DEFENSE

Department of the Air Force

[Docket ID: USAF-2014-0004]

Privacy Act of 1974; System of Records

AGENCY: Department of the Air Force, DoD.

ACTION: Notice to amend a System of Records.

SUMMARY: The Department of the Air Force proposes to amend a system of records notice, F036 AFPC P, Separation Case Files (Officer and Airman), in its existing inventory of records systems subject to the Privacy Act of 1974, as amended. This system will operate an Air Force centralized personnel management system in a geographically and dispersed environment and a population diverse in terms of qualifications, experience, military status and requirements.

DATES: This proposed action will be effective on March 4, 2014 unless comments are received which result in a contrary determination. Comments will be accepted on or before March 3, 2014.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force systems of records notices subject to the Privacy Act of 1974 (5 U.S.C. 552a), as amended, have been published in the Federal Register and are available from the address in FOR FURTHER INFORMATION CONTACT or at the Defense Privacy and Civil Liberties Office Web site at http://dpclo.defense.gov/privacy/SORNs/component/airforce/index.html.

The proposed changes to the record system being amended are set forth below. The proposed amendment is not within the purview of subsection (r) of the Privacy Act of 1974 (5 U.S.C. 552a), as amended, which requires the submission of a new or altered system report.

Dated: January 28, 2014.
Aaron Siegel,
Alternate OSD Federal Register Liaison Officer, Department of Defense.

F036 AFPC P

SYSTEM NAME:

Separation Case Files (Officer and Airman) (September 19, 2012, 77 FR 58107).

CHANGES:

* * * * *

SYSTEM LOCATION:

Delete entry and replace with “National Personnel Records Center, Military Personnel Records Center, 9700 Page Avenue, St. Louis, MO 63132-5100. Air Reserve Personnel Center, 6760 East Irvington Place, Records Branch, Denver, CO 80280-4450. Air Force Personnel Center, 550 C. Street West, Suite 21, (Records Branch), Randolph AFB, TX 78150-4723, and The Judge Advocate General, Headquarters United States Air Force, 1420 Air Force Pentagon, Washington, DC 20330.”

CATEGORIES OF INDIVIDUALS COVERED BY THE SYSTEM:

Delete entry and replace with “Air Force Active Duty Officer and enlisted personnel.”

* * * * *

[FR Doc. 2014-02003 Filed 1-30-14; 8:45 am]

BILLING CODE 5001-06-P